DEPARTMENT OF ENERGY

Federal Energy Regulatory Commission

[Docket No. EL14-17-000]

New England Power Generators Association, Inc. v. ISO New England Inc.; Notice of Complaint

Take notice that on January 8, 2014, pursuant to section 206 of the Federal Energy Regulatory Commission's (Commission) Rules of Practice and Procedure, 18 CFR 385.206 and sections 206 and 306 of the Federal Power Act, 16 U.S.C. 824(e) and 825(e), New England Power Generators Association, Inc. (Complainant) filed a formal complaint against ISO New England Inc. (Respondent) alleging that, Respondent's Transmission, Markets & Services Tariff is unjust and unreasonable. Complainant request that the Commission order the Respondent to revise its Transmission, Markets & Services Tariff to prevent price suppression that will result if capacity from resources whose Non-Price retirement Requests have been rejected by the Respondent for local reliability reasons is then counted against the Installed Capacity Requirement for purposes of the upcoming Forward Capacity Auction.

The Complainant certifies that copies of the complaint were served on the contacts for the Respondent as listed in the Commission's list of Corporate Offiicals.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on January 21, 2014.

Dated: January 10, 2014.
Nathaniel J. Davis, Sr.,
Deputy Secretary.

[FR Doc. 2014-00744 Filed 1-16-14; 8:45 am]

BILLING CODE 6717-01-P